EXECUTIVE OFFICE OF THE PRESIDENT

Council on Environmental Quality

Proposed Guidelines for Ensuring and Maximizing the Quality, Objectivity, Utility, and Integrity of information

AGENCY: Council on Environmental Quality, Executive Office of the President.

ACTION: Proposed guidelines and corrections to comment request.

SUMMARY: This notice requests comment on proposed guidelines. These proposed guidelines were first published in Federal Register Vol. 67 No. 98 on May 21, 2002. They were accompanied by a request for comments, however, the email address listed was incorrect. This notice has the correct email address and an extended comment period to July 15, 2002.

These guidelines implement Section 515 of the Treasury and General Government Appropriations Act for Fiscal Year 2002 (Public Law 106-554; H.R. 5658). Section 515 directs the Office of Management and Budget (OMB) to issue government-wide guidelines under sections 3504(d)(1) and 3516 of Title 44, and require each Federal agency to issue agency-specific guidelines, to ensure and maximize the quality, objectivity, utility, and integrity of information, including statistical information, disseminated by the agency and to establish administrative mechanisms allowing affected persons to seek and obtain correction of information maintained and disseminated by the agency that does not comply with such guidelines. Each agency must also report periodically to the OMB director on the number, nature, and resolution of complaints received by the agency in regards to these requirements.

The proposed guidelines published below would implement these requirements for the Council on Environmental Quality. They are intended to comply with both the statutory requirements noted above and the final guidelines published by OMB on February 22, 2002 (Vol. 67 Federal Register No. 36, at 8452).

DATES: Public comments must be submitted by July 15, 2002.

ADDRESSES: Please submit comments to Dinah Bear, General Counsel of the Council on Environmental Quality, 722 Jackson Place, NW., Washington, DC 20503. Comments can be emailed to info_quality@ceq.eop.gov

FOR FURTHER INFORMATION CONTACT: Dinah Bear, General Counsel, Council on Environmental Quality, 722 Jackson Place, NW., Washington, DC 20503. Telephone: (202) 395-7421.

SUPPLEMENTARY INFORMATION: Notice of this action appeared in The Council on Environmental Quality (CEQ) was established by Congress in 1969 through passage of the National Environmental Policy Act (NEPA), 42 U.S.C. 4321 et seq., and is an agency within the Executive Office of the President (EOP). The Chairman of CEQ, who is appointed by the President with the advice and consent of the Senate, serves as the principal environmental policy adviser to the President. CEQ coordinates federal environmental efforts and works closely with agencies and other White House offices in the development of environmental policies and initiatives. CEQ also oversees Federal agencies implementation of NEPA through promulgation of regulations implementing the procedural provisions of NEPA (40 CFR 1500-1508) and through interpretation of statutory requirements. CEQ also has a variety of other responsibilities under NEPA, the Environmental Quality Improvement Act of 1970 and other statutes.

Section 515 of the Treasury and General Government Appropriations Act for Fiscal Year 2001 (Public Law 106-554, hereinafter referred to as Section 515) directs the Office of Management and Budget to issue government-wide guidelines that “provide policy and procedural guidance to Federal agencies for ensuring and maximizing the quality, objectivity, utility, and integrity of information (including statistical information) disseminated by Federal agencies.” OMB has required agencies to publish draft guidelines no later than May 1, 2002. The Council on Environmental Quality's guidelines will be published in the Federal Register and posted on the agency's web site at www.whitehouse.gov/ceq.

The following are CEQ's “Proposed Guidelines for Ensuring and Maximizing the Quality, Objectivity, Utility, and Integrity of Information Disseminated by the Council on Environmental Quality”:

A. CEQ will ensure that all information it disseminates to the public meets all applicable standards of quality, including objectivity, utility and integrity. CEQ hereby adopts this standard of quality, as a performance goal, and adopts the following procedures for the incorporation of information quality criteria into CEQ information dissemination activities.

1. Objectivity and Utility of Information.

As defined in Section C, below, “objectivity” is a measure of whether disseminated information is “accurate, clear, complete, and unbiased;”. “Utility” refer to the usefulness of the information to its intended audience. CEQ is committed to disseminating reliable and useful information. Before disseminating information, CEQ staff and officials will ensure that the information has been reviewed in an information quality review process that is proportional to the importance of the information. It is the primary responsibility of the professional staff person drafting information intended for dissemination, or supervising the preparation of such information, to use the most knowledgeable and reliable sources reasonably available to confirm the objectivity and utility of such information.

2. Much of the information CEQ disseminates consists of or is based on information submitted to CEQ by other Federal agencies. Prior to dissemination of such information, responsible CEQ staff will obtain a written statement from the agency submitting the information attesting that the information meets the agency of origin's information quality guidelines.

3. In seeking to assure the “objectivity” and “utility” of the information it disseminates, CEQ will generally follow the basic clearance process established internally by the Chief of Staff and, where appropriate, the government-wide clearance process coordinated by OMB. Where appropriate, substantive input will be sought from within CEQ, other offices within the EOP, other government agencies, non-government organizations, and the public. When CEQ determines that the transparency of information is relevant for assessing the information's usefulness from the perspective of the users of the information, including the public, CEQ shall ensure that transparency has been appropriately addressed and provided. In determining the appropriate level of transparency, CEQ should consider the types of data that can practicably be subjected to a reproducibility requirement given ethical, feasibility, and confidentiality constraints.

4. The CEQ staff member or official responsible for the dissemination of information should generally take the following basic steps to assure the “objectivity” and “utility” of the information to be disseminated:

a. Preparing a draft of the document after consulting the necessary parties, including government and non-government sources, as appropriate;

b. Determining necessary clearance points;

c. Determining where the final decision shall be made;

d. Determining whether peer review would be appropriate and, if necessary, coordinating such review;

e. Obtaining clearances; and

f. Overcoming delays and, if necessary, presenting the matter to higher authority.

5. For information regarding risks to human health, safety and the environment and information that CEQ determines is “influential” as defined in Section D(3) of these guidelines, CEQ adapts the standards set forth by Congress in the Safe Drinking Water Act Amendments of 1996 (42 U.S.C. 300g-1(b)(3)(A) & (B) to CEQ's information quality review process. Thus, CEQ will use the “best available,” peer-reviewed science and supporting studies conducted in accordance with sound and objective scientific practices”, and “data collected by the accepted methods or best available methods (if the reliability of the method and the nature of the decision justifies use of the data).” Such information shall be presented in a manner that is comprehensive and informative.

CEQ will also determine whether peer review would be appropriate and, if necessary, coordinate such review. Further, CEQ will provide sufficient information about such methods as related to influential information that a qualified member of the public could reproduce the analysis, subject to an acceptable degree of imprecision and subject to ethical, feasibility and confidentiality constraints.

6. CEQ will disseminate information only after appropriate internal clearances are obtained from the Office of the General Counsel and the Chief of Staff.

7. “Integrity” refers to the protection of information from unauthorized, unanticipated, or unintentional modification, thus preventing information from being compromised by corruption or falsification. Within the EOP, the Office of Administration has substantial responsibility for ensuring the “integrity” of information as defined in these guidelines. CEQ also has an Administrative Officer that coordinates and works with the EOP Office of Administration to ensure the integrity of information. These offices implement and maintain new computer software and hardware systems and provide operational support for systems and system users.

8. Computer security is the responsibility of the EOP Office of Administration's Chief Information, Information Assurance Directorate.

This Office oversees all matters relating to information integrity, including the design and implementation of the security architecture for the EOP, periodic audits of security architecture components, and review and approval of changes to the technical baseline.

9. As an agency under the EOP, CEQ is an integral part of the overall EOP network, and is an active participant in all aspects of information integrity at EOP. CEQ adheres to both law and OMB IT security policies, along with EOP security policies and operational processes for the protection of data and information.

10. Information quality standards applicable to the dissemination of information by CEQ may be waived temporarily by the Chair of CEQ, the General Counsel, the Chief of Staff, or his/her designee in urgent situations (e.g., imminent threats to public health, homeland security, or of significant environmental impact) to the extent necessary to respond to the urgent situation. Any waiver shall provide for public notice, to the extent practicable under the circumstances of the waiver, and a determination of the point at which the normal application of information quality standards will resume.

B. Administrative Process for Correction of Information

1. Any person who is affected by information disseminated by CEQ that he or she believes does not comply with these guidelines may seek correction of that information by submitting a request for correction to CEQ within 90 days of CEQ's dissemination of the information.

2. Any request for correction must be submitted by mail to the Deputy General Counsel, CEQ, 722 Jackson Place, NW., Washington, DC 20503 or via electronic mail at info_quality@ceq.eop.gov. The request for correction should be as specific as possible regarding the information that is the subject of the concern and the reason(s) for the concern. Affected persons shall clearly indicate that the communication is a “Request for Correction” under Section 515 of the Treasury and General Government Appropriation Act for Fiscal Year 2001. Persons should specify the information that is being contested, the aspect of the information that needs to be corrected, explain how they are affected by the information, how the information identified does not comply with applicable information quality guidelines, and what corrective action is sought. Persons should provide all supporting information necessary for CEQ to correct the information. CEQ may decline to respond to requests that appear to be frivolous and/or duplicative.

3. CEQ will respond to any request within 60 days of receipt of the request in accordance with paragraph C.1, and may at that time provide an initial response that additional time is necessary to consider the request, to consult with the source of the information or other agencies, or to obtain additional information from the requestor or the public. If CEQ finds that additional time is necessary, CEQ shall seek a mutually agreed-upon extension of time and, if agreement is not obtained, shall include in its initial response a deadline for a final CEQ response based upon the factors that require additional time.

4. CEQ's final response will set forth whether CEQ agrees or disagrees with the concern expressed and, if it believes the concern has validity, how CEQ will correct the information or otherwise address the concern. Subject to applicable law, rules and regulations, CEQ may take corrective measures through any appropriate and effective means, including personal contacts via letter or telephone, form letters, press releases, or postings on the CEQ website to correct a widely disseminated error or address a frequently raised request. Corrective measures, where appropriate, should be designed to provide reasonable notice to affected persons of such correction.

5. If CEQ responds that the information meets the requirements of the applicable guidelines and no correction is needed, the affected person may request reconsideration of the response from the CEQ General Counsel within 60 days of receipt of the response. Such a request for reconsideration shall clearly indicate that the communication is a “Request for Reconsideration” under Section 515 of the Treasury and General Government Appropriation Act for Fiscal Year 2001 and set forth, as specifically as possible, the reasons for the affected person's disagreement with CEQ's response. The request for reconsideration should be mailed to the CEQ General Counsel, 722 Jackson Place, NW., Washington DC 20503 or e-mailed to info_quality@ceq.eop.gov CEQ will respond to any such request for reconsideration within 60 days of receipt of the request.

C. Definitions

1. “Affected” persons are those who use, or may benefit from or be harmed by, the disseminated information.

2. “Dissemination” means agency-initiated or sponsored distribution of information to the public, whether in written, electronic, or audiovisual form. Dissemination does not include distribution of information or materials that are:

a. intended for government employees or agency contractors, consultants or volunteers;

b. intended for U.S. government agencies;

c. produced in response to requests for agency records under the Freedom of Information Act, the Privacy Act, the Federal Advisory Committee Act or similar law, or requests from Congress or other government officials;

d. correspondence or other communication limited to individuals or to other persons within the meaning of “person” as forth in paragraph 7, below;

e. archival records;

f. responses to subpoenas or other compulsory document productions;

g. documents prepared for adjudicative proceedings.

3. “Influential” when used in the phrase “influential information” refers to disseminated information that CEQ determines will have a clear and substantial impact on important public policies or important private sector decisions.

4. “Information,” for purposes of these guidelines, means any communications or representation of facts or data, in any medium or form, including textual, numerical, graphic, cartographic, narrative, or audiovisual forms. This definition does not include:

a. opinions, where the presentation makes clear that the statements are subjective opinions, rather than facts; however, any underlying information disseminated by CEQ upon which the opinion is based may be subject to these guidelines;

b. information originated by, and attributed to, Non-CEQ sources, provided CEQ does not expressly rely upon it. Examples include: Non-U.S. Government information reported and duly attributed in materials prepared and disseminated by CEQ; hyperlinks on CEQ's website to information that others disseminate; and reports of advisory committees published on CEQ's website;

c. statements related solely to the internal personnel rules and practices of CEQ and other materials produced for CEQ employees, contractors, agents, volunteers or alumni;

d. descriptions of the agency, its responsibilities and its organizational components;

e. statements, the modification of which might cause harm to the national security, including harm to the national defense or foreign relations of the United states;

f. statements of Administration policy; however, any underlying information disseminated by CEQ upon which a statement is based may be subject to these guidelines;

g. testimony or comments of CEQ officials before Congress, courts, administrative bodies, or the media;

h. investigatory material compiled pursuant to U.S. law or for law enforcement purposes in the United States; or

i. statements which are, or which reasonably may be expected to become, the subject of litigation, whether before a U.S. or foreign court, or in a dispute resolution proceeding.

5. “Integrity” refers to the security of information—protection of the information from unauthorized access or revision, to prevent the information from being compromised through corruption or falsification.

6. “Objectivity” addresses whether disseminated information is being presented in an accurate, clear, complete, and unbiased manner, including background information where warranted by the circumstances.

7. “Person” means an individual, partnership, association, corporation, business trust, or legal representative, an organized group of individuals, a regional, national, State, territorial, tribal, or local government or branch thereof, or a political subdivision of a State, territory, tribal, or local government or a branch of a political subdivision, or an international organization;

8. “Quality” encompasses “utility”, “objectivity”, and “integrity”. Thus, the government-wide guidelines and CEQ's guidelines may refer to these four statutory terms, collectively, as “quality”.

9. “Utility” refers to the usefulness of the information to its intended users, including the public.

Dated: June 18, 2002
James L. Connaughton,
Chairman, Council on Environmental Quality.

[FR Doc. 02-15777 Filed 6-20-02; 8:45 am]

BILLING CODE 3125-01-M